INTERNATIONAL TRADE COMMISSION

[Inv. No. 337-TA-602]

In the Matter of Certain GPS Devices and Products Containing Same; Enforcement Proceeding; Modification Proceeding; Notice of Commission Determination Not To Review an Initial Determination (Order No. 6) Terminating the Enforcement Proceeding and an Initial Determination (Order No. 13) Terminating the Modification Proceeding Based on a Settlement Agreement

AGENCY: U.S. International Trade Commission.

ACTION: Notice.

SUMMARY: Notice is hereby given that the U.S. International Trade Commission has determined not to review the presiding administrative law judge's (“ALJ”) initial determinations (“ID”) (Order No. 6) terminating the enforcement proceeding and (Order No. 13) terminating the modification proceeding based on a settlement agreement.

FOR FURTHER INFORMATION CONTACT: Daniel E. Valencia, Office of the General Counsel, U.S. International Trade Commission, 500 E Street, SW., Washington, DC 20436, telephone (202) 205-1999. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The underlying investigation was instituted on May 7, 2007, based on a complaint filed by Global Locate, Inc., a subsidiary of Broadcom Corporation (collectively, “Broadcom”). 72 FR 25777 (2007). The complaint alleged violations of section 337 in the importation into the United States, the sale for importation, or the sale within the United States after importation of certain GPS devices and products containing the same by reason of infringement of various claims of U.S. Patents. The complaint in the underlying investigation named various respondents. On January 15, 2009, the Commission found a violation of section 337 by the respondents by reason of infringement of all asserted patents. The Commission issued a limited exclusion order and cease-and-desist orders against the respondents. Respondents subsequently appealed the Commission's final determination to the United States Court of Appeals for Federal Circuit (“Federal Circuit”). In a precedential opinion issued April 12, 2010, the Federal Circuit affirmed the Commission's Final Determination in all respects.

On August 16, 2010, the Commission instituted modification proceedings based on a petition seeking modification of the Commission's remedial orders filed by the respondents. On December 7, 2010, the Commission also instituted enforcement proceedings based on an enforcement complaint filed by Broadcom.

On January 14, 2011, Broadcom and the respondents filed joint motions to terminate these proceedings based on a settlement agreement. On January 27, 2011, the Commission investigative attorney supported the joint motions for termination.

On January 28, the ALJ granted the joint motions to terminate these proceedings and issued the subject IDs. No petitions for review of the IDs were filed. The Commission has determined not to review the subject IDs.

The authority for the Commission's determination is contained in section 337 of the Tariff Act of 1930, as amended (19 U.S.C. 1337), and in section 210.42 of the Commission's Rules of Practice and Procedure (19 CFR 210.42).

Issued: February 28, 2011.
By order of the Commission.
William R. Bishop,
Hearings and Meetings Coordiator.

[FR Doc. 2011-4849 Filed 3-3-11; 8:45 am]

BILLING CODE 7020-02-P